DEPARTMENT OF ENERGY

Federal Energy Regulatory Commission

Combined Notice of Filings #1

Take notice that the Commission received the following electric corporate filings:

Docket Numbers: EC16-131-000.

Applicants: Beacon Solar 4, LLC.

Description: Application for Authorization Under Section 203 of the Federal Power Act, Request for Expedited Consideration and Confidential Treatment of Beacon Solar 4, LLC.

Filed Date: 6/8/16.

Accession Number: 20160608-5237.

Comments Due: 5 p.m. ET 6/29/16.

Take notice that the Commission received the following exempt wholesale generator filings:

Docket Numbers: EG16-116-000.

Applicants: Rush Springs Wind Energy, LLC.

Description: Notification of Self-Certification of Exempt Wholesale Generator Status of Rush Springs Wind Energy, LLC.

Filed Date: 6/9/16.

Accession Number: 20160609-5179.

Comments Due: 5 p.m. ET 6/30/16.

Take notice that the Commission received the following electric rate filings:

Docket Numbers: ER15-1825-007.

Applicants: California Independent System Operator Corporation.

Description: Compliance filing: 2016-06-09 Filing in Compliance with May 31 Order Delaying RSI Effective Date to be effective 11/1/2016.

Filed Date: 6/9/16.

Accession Number: 20160609-5260.

Comments Due: 5 p.m. ET 6/30/16.

Docket Numbers: ER16-1378-001.

Applicants: Rocky Mountain Reserve Group.

Description: Compliance filing: 20160609_Bylaws Compliance Filing to be effective 4/15/2016.

Filed Date: 6/9/16.

Accession Number: 20160609-5182.

Comments Due: 5 p.m. ET 6/30/16.

Docket Numbers: ER16-1897-000.

Applicants: Summer Solar LLC.

Description: Baseline eTariff Filing: Co-Tenancy Agreement to be effective 7/7/2016.

Filed Date: 6/9/16.

Accession Number: 20160609-5007.

Comments Due: 5 p.m. ET 6/30/16.

Docket Numbers: ER16-1898-000.

Applicants: Antelope Big Sky Ranch LLC.

Description: Baseline eTariff Filing: Antelope Big Sky Ranch LLC Co-Tenancy Agreement to be effective 7/7/2016.

Filed Date: 6/9/16.

Accession Number: 20160609-5008.

Comments Due: 5 p.m. ET 6/30/16.

Docket Numbers: ER16-1899-000.

Applicants: Summer Solar LLC.

Description: Baseline eTariff Filing: Shared Facilities Agreement to be effective 7/7/2016.

Filed Date: 6/9/16.

Accession Number: 20160609-5009.

Comments Due: 5 p.m. ET 6/30/16.

Docket Numbers: ER16-1900-000.

Applicants: Antelope Big Sky Ranch LLC.

Description: Baseline eTariff Filing: Antelope Big Sky Ranch LLC SFA to be effective 7/7/2016.

Filed Date: 6/9/16.

Accession Number: 20160609-5010.

Comments Due: 5 p.m. ET 6/30/16.

Docket Numbers: ER16-1901-000.

Applicants: Elevation Solar C LLC.

Description: Baseline eTariff Filing: Elevation Solar C LLC MBR Tariff to be effective 6/10/2016.

Filed Date: 6/9/16.

Accession Number: 20160609-5160.

Comments Due: 5 p.m. ET 6/30/16.

Docket Numbers: ER16-1902-000.

Applicants: Celesta Energy, Inc.

Description: Tariff Cancellation: Celesta Energy, Inc. Cancellation of Tariff to be effective 6/10/2016.

Filed Date: 6/9/16.

Accession Number: 20160609-5176.

Comments Due: 5 p.m. ET 6/30/16.

Docket Numbers: ER16-1903-000.

Applicants: Lighthouse Energy Group, LLC.

Description: Tariff Cancellation: Lighthouse Energy Group, LLC Cancellation of Tariff to be effective 6/10/2016.

Filed Date: 6/9/16.

Accession Number: 20160609-5180.

Comments Due: 5 p.m. ET 6/30/16.

Take notice that the Commission received the following electric reliability filings:

Docket Numbers: RD16-8-000.

Applicants: North American Electric Reliability Corporation, Northeast Power Coordinating Council.

Description: Joint Petition of the North American Electric Reliability Corporation and Northeast Power Coordinating Council for Approval of Retirement of Regional Reliability Standard PRC-002-NPCC-01.

Filed Date: 6/9/16.

Accession Number: 20160609-5162.

Comments Due: 5 p.m. ET 7/11/16.

The filings are accessible in the Commission's eLibrary system by clicking on the links or querying the docket number:

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 9, 2016.
Nathaniel J. Davis, Sr.,
Deputy Secretary.

[FR Doc. 2016-14146 Filed 6-14-16; 8:45 am]

BILLING CODE 6717-01-P